DEPARTMENT OF DEFENSE

Office of the Secretary

[Docket ID: DOD-2011-OS-0141]

Privacy Act of 1974; System of Records

AGENCY: Office of the Secretary, Department of Defense (DoD).

ACTION: Notice to Amend a System of Records.

SUMMARY: The Office of the Secretary of Defense is proposing to amend a system of records notice in its existing inventory of records systems subject to the Privacy Act of 1974 (5 U.S.C. 552a), as amended.

DATES: The changes will be effective on January 9, 2012 unless comments are received that would result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Services, 1155 Defense Pentagon, Washington DC 20301-1155, or by phone at (571) 372-0461.

SUPPLEMENTARY INFORMATION: The Office of the Secretary of Defense notices for systems of records subject to the Privacy Act of 1974, (5 U.S.C. 552a), as amended, have been published in the Federal Register and are available from the address in FOR FURTHER INFORMATION CONTACT.

The specific changes to the records systems being amended are set forth below followed by the notices, as amended, published in their entirety. The proposed amendments are not within the purview of subsection (r) of the Privacy Act of 1974, (5 U.S.C. 552a), as amended, which requires the submission of a new or altered system report.

Dated: December 5, 2011.
Aaron Siegel,
Alternate OSD Federal Register Liaison Officer, Department of Defense.

DWHS P18

System name:

Office of the Secretary of Defense Identification Badge System (April 8, 2010, 75 FR 17908).

Changes:

* * * * *

System location:

Delete entry and replace with “Military Personnel Division, Human Resources Directorate, Washington Headquarters Services, Department of Defense, Room 5E564, 1155 Defense Pentagon, Washington, DC 20301-1155.”

* * * * *

System manager(s) and address:

Delete entry and replace with “Assistant Director, Military Personnel Division, Human Resources Directorate, Washington Headquarters Services, Department of Defense, Room 5E564, 1155 Defense Pentagon, Washington, DC 20301-1155.”

Record access procedures:

Delete entry and replace with “Individuals seeking access to information about themselves contained in this system should address written inquiries to Military Personnel Division, Human Resources Directorate, Washington Headquarters Services, Department of Defense, 1155 Defense Pentagon, Washington, DC 20301-1155.

Request must include the name and number of this system of records notice, along with the individual's name, grade, service, Social Security Number (SSN) and be signed.”

* * * * *

DWHS P18

System name:

Office of the Secretary of Defense Identification Badge System.

System location:

Military Personnel Division, Human Resources Directorate, Washington Headquarters Services, Department of Defense, Room 5E564, 1155 Defense Pentagon, Washington, DC 20301-1155.

Categories of individuals covered by the system:

All permanent military personnel assigned to the Office of the Secretary of Defense.

Categories of records in the system:

Name, Social Security Number (SSN), rank, service, date assigned and the Office of the Secretary of Defense component to which assigned.

Authority for maintenance of the system:

10 U.S.C. 1125, Recognition for Accomplishment: Awards & Trophies; Recognition for accomplishments: Awards of trophies, DoD 1348.33-M, Manual of Military Decorations and Awards and E.O. 9397 (SSN), as amended.

Purpose(s):

To be used by officials of the Military Personnel Division, Human Resources Directorate, Washington Headquarters Services to temporarily issue the badge at arrival and determine who is authorized permanent award after a one-year period and then prepare the certificate to recognize this event.

Routine uses of records maintained in the system, including categories of users and the purposes of such uses:

In addition to those disclosures generally permitted under 5 U.S.C. 552a(b) of the Privacy Act of 1974, these records may specifically be disclosed outside the DoD as a routine use pursuant to 5 U.S.C. 552a(b)(3) as follows:

The DoD `Blanket Routine Uses' set forth at the beginning of Office Secretary of Defense's compilation of systems of records notices apply to this system.

Policies and practices for storing, retrieving, accessing, retaining, and disposing of records in the system:

Storage:

Paper and/or electronic storage media.

Retrievability:

Information is retrieved by last name of recipient, Social Security Number (SSN), grade, and/or service.

Safeguards:

Accesses are authorized by system manager, granted by Information Technology Management Directorate to a secure computer application database and are Common Access Card enabled. Users receive annual Privacy Act and information assurance training, and only those individuals with an official “need to know” are provided access. Back-up data is stored in a locked room.

Retention and disposal:

Records are retired to Washington National Records Center 3 years after cutoff. Destroy when 15 years old.

System manager(s) and address:

Assistant Director, Military Personnel Division, Human Resources Directorate, Washington Headquarters Services, Department of Defense, Room 5E564, 1155 Defense Pentagon, Washington, DC 20301-1155.

Notification procedure:

Individuals seeking to determine whether information about themselves is contained in this system should address written inquiries to Military Personnel Division, Human Resources Directorate, Washington Headquarters Services, Department of Defense, 1155 Defense Pentagon, Washington, DC 20301-1155.

Request must include the name and number of this system of records notice, along with the individual's name, grade, service, Social Security Number (SSN) and be signed.

Record access procedures:

Individuals seeking access to information about themselves contained in this system should address written inquiries to Military Personnel Division, Human Resources Directorate, Washington Headquarters Services, Department of Defense, 1155 Defense Pentagon, Washington, DC 20301-1155.

Request must include the name and number of this system of records notice, along with the individual's name, grade, service, Social Security Number (SSN) and be signed.

Contesting record procedures:

The Office of the Secretary of Defense rules for accessing records, for contesting contents and appealing initial agency determinations are published in Office of Secretary of Defense Administrative Instruction 81; 32 CFR part 311; or may be obtained from the system manager.

Record source categories:

Individuals.

Exemptions claimed for the system:

None.

[FR Doc. 2011-31567 Filed 12-8-11; 8:45 am]

BILLING CODE 5001-06-P